DEPARTMENT OF THE INTERIOR

Bureau of Indian Affairs

[145A2100DD AAK4000000 A0R9B0000.999900]

Renewal of Agency Information Collection for Probate of Indian Estates

AGENCY: Bureau of Indian Affairs, Interior.

ACTION: Notice of request for comments.

SUMMARY: In compliance with the Paperwork Reduction Act of 1995, the Bureau of Indian Affairs (BIA) is seeking comments on the renewal of Office of Management and Budget (OMB) approval for the collection of information titled “Probate of Indian Estates, Except for Members of the Osage Nation and the Five Civilized Tribes,” authorized by OMB Control Number 1076-0169. This information collection expires February 28, 2015.

DATES: Submit comments on or before December 29, 2014.

ADDRESSES: You may submit comments on the information collection to Charlene Toledo, Bureau of Indian Affairs, Office of Trust Services, Division of Probate Services 2600 N Central Ave STE MS 102, Phoenix, AZ 85004: Charlene.Toledo@bia.gov.

FOR FURTHER INFORMATION CONTACT: Charlene Toledo, (505) 563-3371.

SUPPLEMENTARY INFORMATION:

I. Abstract

The Secretary of the Interior probates the estates of individual Indians owning trust or restricted property in accordance with 25 U.S.C. 372, 373. In order to compile the probate file, the Bureau of Indian Affairs (BIA) must obtain information regarding the deceased from individuals and the tribe.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0169.

Title: Probate of Indian Estates, Except for Members of the Osage Nation and Five Civilized Tribes, 25 CFR part 15.

Brief Description of Collection: This part contains the procedures that the Secretary of the Interior follows to initiate the probate of the trust estate for a deceased person who owns an interest in trust or restricted property. The Secretary must perform the information collection requests in this part to obtain the information necessary to compile an accurate and complete probate file. This file will be forwarded to the Office of Hearing and Appeals (OHA) for disposition. Responses to these information collection requests are required to create a probate file for the decedent's estate so that OHA can determine the heirs of the decedent and order distribution of the trust assets in the decedent's estate.

Type of Review: Extension without change of currently approved collection.

Respondents: Indians, businesses, and tribal authorities.

Number of Respondents: 64,915.

Frequency of Response: On per respondent each year with the exception of tribes that may be required to provide enrollment information on an average of approximately 10 times/year.

Estimated Total Annual Responses: 76,685.

Estimated Time per Response: Ranges from 0.5 hours to 45.5 hours (see table below).

Estimated Total Annual Hour Burden: 1,037,493.

CFR Section | Description of information collection requirement | Number of responses per year | Hours per response | Total burden hours
15.9 | File affidavit to self-prove will, codicil, or revocation | 1,000 | 0.5 | 500
15.9 | File supporting affidavit to self-prove will, codicil, or revocation | 2,000 | 0.5 | 1,000
15.104 | Reporting req.- death certificate | 5,850 | 5 | 29,250
15.105 | Provide probate documents | 21,235 | 45.5 | 966,193
15.203 | Provide tribal information for probate file | 5,650 | 2 | 11,300
15.301 | Reporting funeral expenses | 5,850 | 2 | 11,700
15.305 | Provide info on creditor claim (6 per probate) | 35,100 | 0.5 | 17,550
Total |  | 76,685 |  | 1,037,493

Estimated Total Annual Non-Hour Dollar Cost: $0.

Dated: October 21, 2014.
Phillip L. Brinkley,
Senior Advisor for Information Resources—Indian Affairs, (Interim).

[FR Doc. 2014-25571 Filed 10-27-14; 8:45 am]

BILLING CODE 4310-W7-P